SMALL BUSINESS ADMINISTRATION

[Disaster Declaration #14775 and #14776]

Oklahoma Disaster Number OK-00105

AGENCY: U.S. Small Business Administration.

ACTION: Amendment 2.

SUMMARY: This is an amendment of the Presidential declaration of a major disaster for Public Assistance Only for the State of Oklahoma (FEMA-4274-DR), dated 07/15/2016.

Incident: Severe Storms and Flooding.

Incident Period: 06/11/2016 through 06/13/2016.

Effective Date: 08/30/2016.

Physical Loan Application Deadline Date: 09/13/2016.

Economic Injury (EIDL) Loan Application Deadline Date: 04/17/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 07/15/2016, is hereby amended to include the following areas as adversely affected by the disaster.

Primary Counties: Jackson.

All other information in the original declaration remains unchanged.

(Catalog of Federal Domestic Assistance Number 59008)

James E. Rivera,
Associate Administrator for Disaster Assistance.

[FR Doc. 2016-22110 Filed 9-14-16; 8:45 am]

BILLING CODE 8025-01-P